NATIONAL ARCHIVES AND RECORDS ADMINISTRATION

Nixon Presidential Historical Materials: Opening of Materials

AGENCY: National Archives and Records Administration.

ACTION: Notice of opening of additional materials.

SUMMARY: This notice announces the opening of additional Nixon Presidential Historical Materials. Notice is hereby given that, in accordance with section 104 of Title I of the Presidential Recordings and Materials Preservation Act (PRMPA, 44 U.S.C. 2111 note) and 1275.42(b) of the PRMPA Regulations implementing the Act (36 CFR Part 1275), the agency has identified, inventoried, and prepared for public access approximately 198 hours of Nixon White House tape recordings and integral file segments among the Nixon Presidential historical materials.

DATES: The National Archives and Records Administration (NARA) intends to make the materials described in this notice available to the public on Tuesday, December 2, 2008 beginning at 12 p.m. (EST)/9 a.m. (PST). In accordance with 36 CFR 1275.44, any person who believes it necessary to file a claim of legal right or privilege concerning access to these materials must notify the Archivist of the United States in writing of the claimed right, privilege, or defense before November 26, 2008.

ADDRESSES: The White House Communications Agency Sound Recording and the textual materials will be made available to the public at the National Archives at College Park research room, located at 8601 Adelphi Road, College Park, Maryland with the exception of the Bryce Harlow Files which will be made available to the public at the Richard Nixon Presidential Library and Museum, 18001 Yorba Linda Blvd., Yorba Linda, CA 92886. The Nixon White House tapes will be available at both locations and on the Internet at http://www.nixonlibrary.gov. Researchers at either facility must have a NARA researcher card which they may obtain when they arrive at the facility.

Petitions asserting a legal or constitutional right or privilege which would prevent or limit access must be sent to the Archivist of the United States, National Archives at College Park, 8601 Adelphi Road, College Park, Maryland 20740-6001.

FOR FURTHER INFORMATION CONTACT: Timothy Naftali, Director, Richard Nixon Presidential Library and Museum, 714-983-9121 or 301-837-3117.

SUPPLEMENTARY INFORMATION: The following materials will be made available in accordance with this notice:

1. NARA is proposing to open approximately 1,398 conversations which were recorded at the Nixon White House from November 1972 to December 1972. These conversations total approximately 198 hours of listening time. This is the twelfth opening of Nixon White House tapes since 1980. There are no transcripts for these tapes. Tape subject logs, prepared by NARA, are offered for public access as a finding aid to the tape segments and a guide for the listener. There is a separate tape log entry for each conversation. Each tape log entry includes the names of participants; date and inclusive times of each conversation; location of the conversation; and an outline of the content of the conversation. Listening stations will be available for public use on a first come, first served basis. NARA reserves the right to limit listening time in response to heavy demand.

2. Previously restricted materials. Volume: 2 cubic feet. A number of materials which were previously withheld from public access have been reviewed for release and/or declassified under the mandatory review provisions of Executive Order 12958, as amended, or in accordance with 36 CFR 1275.56 (Public Access regulations). The materials are from file segments for the White House Special Files, Staff Member and Office Files; the National Security Files; and the White House Communications Agency Sound Recording Collection.

3. White House Central Files, Staff Member and Office Files. Volume: 30 cubic feet. The White House Central Files Unit is a permanent organization within the White House complex that maintains a central filing and retrieval system for the records of the President and his staff. The Staff Member and Office Files consist of materials that were transferred to the Central Files but were not incorporated into the Subject Files. Two file groups will be made available: J. Fred Buzhardt Files and Bryce Harlow Files.

4. White House Central Files, Name Files: Volume: < 1 cubic foot. The Name Files were used for routine materials filed alphabetically by the name of the correspondent; copies of documents in the Name Files are usually filed by subject in the Subject Files. The Name File relating to Jack Anderson will be made available with this opening.

Dated: October 21, 2008.
Allen Weinstein,
Archivist of the United States.

[FR Doc. E8-25572 Filed 10-24-08; 8:45 am]

BILLING CODE 7515-01-P